GENERAL SERVICES ADMINISTRATION

Office of Communications; Cancellation of a Standard Form

AGENCY: General Services Administration.

ACTION: Notice.

SUMMARY: The Department of Agriculture and the Department of Interior has cancelled the following Optional Form because of low usage: OF 289, Property Loss or Damage Report—Fire Suppression.

DATES: Effective upon publication in the Federal Register.

FOR FURTHER INFORMATION CONTACT: Ms. Barbara Williams, General Services Administration, (202) 501-0581.

Dated: January 2, 2001.
Barbara M. Williams,
Deputy Standard and Optional Forms Management Officer.

[FR Doc. 01-1104 Filed 1-11-01; 8:45 am]

BILLING CODE 6820-34-M